Title 3—

The President

Proclamation 8365 of April 24, 2009

National Crime Victims’ Rights Week, 2009

By the President of the United States of America

A Proclamation

From violence in our neighborhoods to credit card fraud on the Internet, Americans fall victim to countless crimes every day. Our Nation has no higher responsibility than protecting the safety of our families. During National Crime Victims’ Rights Week, we honor crime victims by pledging to fight crime wherever it exists.

This commitment begins by supporting the men and women working every day to reduce crime and assist crime victims. Often placing themselves in harm’s way and sacrificing personal interests, these individuals are the backbone of the extensive efforts to protect Americans from crime. They have demonstrated a commitment to serve others, and their dedication is vital to implementing a successful strategy for crime reduction and victim assistance.

Crime victims have benefited from the Victims of Crime Act of 1984 (Public Law 98-473), one of the most significant achievements in crime victim assistance. This law created an innovative method for using fines and penalties from Federal criminals to fund services for victims. This Crime Victims Fund has already helped millions of victims across the country access basic assistance and financial compensation. This year marks the 25th anniversary of the bill’s bipartisan passage.

An effective approach to fighting crime must include programs that make sense and work. To that end, my Administration is building on past achievements to address the range of crimes that Americans may encounter. The American Recovery and Reinvestment Act, which I signed in February, helps State and local law enforcement personnel perform critical work by providing $2 billion through the Edward Byrne Justice Assistance Grant Program.

A smart crime reduction strategy must also incorporate outreach to those who have paid their debt to society and have become responsible and contributing members of their communities. Prisoner reentry programs have been tested and proven effective. Through a number of supportive services, including substance abuse and mental health counseling, prison-to-work incentives, job training, and transitional assistance, reentry programs help reduce crime recidivism and keep families safer. By utilizing common-sense and proven methods, we can both reduce crime and serve crime victims.

NOW, THEREFORE, I, BARACK OBAMA, President of the United States of America, by virtue of the authority vested in me by the Constitution and the laws of the United States, do hereby proclaim April 26 through May 2, 2009, as National Crime Victims’ Rights Week. I call upon all Americans to observe this week by participating in events that raise awareness of victims’ rights and services and by volunteering to serve victims in their time of need.

IN WITNESS WHEREOF, I have hereunto set my hand this twenty-fourth day of April, in the year of our Lord two thousand nine, and of the Independence of the United States of America the two hundred and thirty-third.

[FR Doc. E9-9987

Filed 4-28-09; 8:45 am]

Billing code 3195-W9-P